DEPARTMENT OF DEFENSE

Office of the Secretary

Reserve Forces Policy Board (RFPB); Notice of Federal Advisory Committee Meeting

AGENCY: Office of the Secretary of Defense, Reserve Forces Policy Board, DoD.

ACTION: Notice of Federal Advisory Committee Meeting.

SUMMARY: The Department of Defense is publishing this notice to announce that the following Federal Advisory Committee meeting of the Reserve Forces Policy Board will take place.

DATES: Wednesday, September 2, 2015 from 8:20 a.m. to 4:30 p.m.

ADDRESSES: The address for the Open Session of the meeting is the Army Navy Country Club, 1700 Army Navy Drive, Arlington, VA 22202.

FOR FURTHER INFORMATION CONTACT: Mr. Alex Sabol, Designated Federal Officer, (703) 681-0577 (Voice), (703) 681-0002 (Facsimile), Email—Alexander.J.Sabol.Civ@Mail.Mil. Mailing address is Reserve Forces Policy Board, 5113 Leesburg Pike, Suite 601, Falls Church, VA 22041. Web site: http://rfpb.defense.gov/. The most up-to-date changes to the meeting can be found on the RFPB's Web site.

SUPPLEMENTARY INFORMATION: This meeting notice is being published under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review and evaluate information related to strategies, policies, and practices designed to improve and enhance the capabilities, efficiency, and effectiveness of the Reserve Components. Additionally, the Board will review its work from the past year and determine what matters to include in the annual report required by law to be transmitted to the President and the Congress by the Secretary of Defense.

Agenda: The RFPB will hold a meeting from 8:20 a.m. until 4:30 p.m. The meeting will be open to the public and will focus on discussions of the Service's personnel system reforms being considered under the Force of the Future initiative and its effects on the Reserve Components to the RFPB from the invited speakers to include the Acting Under Secretary of Defense (Personnel and Readiness), Chief of Naval Personnel, U.S. Navy; Deputy Chief of Staff for Manpower, Personnel and Services, U.S. Air Force; Deputy Chief of Staff, G-1, U.S. Army; Deputy Commandant for Manpower and Reserve Affairs, U.S. Marine Corps; and Director, Reserve & Military Personnel, U.S. Coast Guard. Additionally, two of the RFPB subcommittee chairs will provide updates on the work of their respective subcommittee. The Ensuring a Ready, Capable, Available and Sustainable Operational Reserve Subcommittee will provide findings of their review of the Department's and Service's mobilization and dwell time policies and authorities affecting the Reserve Component operational availability, and will conclude with a briefing by the Institute for Defense Analyses (IDA) on the initial findings of their study on the Reserve Component effectiveness during Operation Iraqi Freedom (OIF). The Supporting & Sustaining Reserve Component Personnel Subcommittee plans to highlight issues and to recommend a change to the Service's management of their Individual Ready Reserve (IRR) programs.

Meeting Accessibility: Pursuant to 5 U.S.C. 552b, as amended and 41 CFR 102-3.140 through 102-3.165, and subject to the availability of space, the meeting is open to the public from 8:20 a.m. to 4:30 p.m. Seating is based on a first-come, first-served basis. All members of the public who wish to attend the public meeting must contact Mr. Alex Sabol, the Designated Federal Officer, not later than 12:00 p.m. on Thursday, August 27, 2015, as listed in the FOR FURTHER INFORMATION CONTACT section.

Written Statements: Pursuant to 41 CFR 102-3.105(j) and 102-3.140 and section 10(a)(3) of the FACA, interested persons may submit written statements to the RFPB at any time about its approved agenda or at any time on the Board's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's Web site.

Dated: August 10, 2015.
Aaron Siegel,
Alternate OSD Federal Register Liaison Officer, Department of Defense.

[FR Doc. 2015-19900 Filed 8-12-15; 8:45 am]

BILLING CODE 5001-06-P